FEDERAL RETIREMENT THRIFT INVESTMENT BOARD

Sunshine Act Meeting

TIME AND DATE: November 19, 2015, 8:30 a.m., In-Person Meeting.

PLACE: Le Meridien, 333 Battery Street, Mercantile Room, San Francisco, CA 94111.

STATUS: Open to the public.

MATTERS TO BE CONSIDERED:

Open to the Public

Open Session

1. Approval of the Minutes for the October 27, 2015 Board Member Meeting.

2. Monthly Reports

a) Monthly Participant Activity Report.

b) Monthly Investment Report.

c) Legislative Report.

3. Office of Investments Report.

4. Investment Manager Annual Service Review.

5. 2016 Proposed Internal Audit Schedule.

Closed Session

Security

Adjourn

CONTACT PERSON FOR MORE INFORMATION: Kimberly Weaver, Director, Office of External Affairs, (202) 942-1640.

Dated: November 10, 2015.
James B. Petrick,
Secretary, Federal Retirement Thrift Investment Board.

[FR Doc. 2015-29242 Filed 11-12-15; 11:15 am]

BILLING CODE 6760-01-P